DEPARTMENT OF AGRICULTURE

Food and Nutrition Service

Agency Information Collection Activities: Proposed Collection; Comment Request—Evaluation of the School Breakfast Program Pilot Project—Data Collection Instruments

AGENCY: Food and Nutrition Service, USDA.

ACTION: Notice.

SUMMARY: In accordance with the Paperwork Reduction Act of 1995, this notice announces the Food and Nutrition Service's intention to request Office of Management and Budget approval of the data collection instruments for the Evaluation of the School Breakfast Program Pilot Project.

DATES: Written comments on this notice must be received by November 27, 2000.

ADDRESSES: Comments may be sent to: Alberta C. Frost, Director, Office of Analysis, Nutrition and Evaluation, Food and Nutrition Service, U.S. Department of Agriculture, 3101 Park Center Drive, Alexandria, VA 22302.

Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

All responses to this notice will be summarized and included in the request for Office of Management and Budget (OMB) approval. All comments will also become a matter of public record.

FOR FURTHER INFORMATION CONTACT: Requests for additional information or copies of the proposed information collection forms should be directed to Alberta C. Frost, (703) 305-2117.

SUPPLEMENTARY INFORMATION: Title: Evaluation of the School Breakfast Program Pilot Project—Data Collection Instruments.

OMB Number: Not yet assigned.

Expiration Date: N/A.

Type of Request: New collection of information.

Abstract: Section 109(b) of the William F. Goodling Child Nutrition Act of 1998 (Pub. L. 105-336) amended Section 18 of the Richard B. Russell National School Lunch Act (42 U.S.C. 1769) to authorize a pilot study that provides free school breakfasts to all students regardless of family income in up to six school districts. The evaluation will rigorously assess the impact of this universal-free school breakfast program on program participation and a broad range of student outcomes, including academic achievement, school attendance and tardiness, classroom behavior and attentiveness, and dietary status. In addition, the evaluation will include a comprehensive implementation analysis to document how the universal-free breakfast program was implemented, changes in program operations and administration, and its costs. OMB approval is requested for the data collection instruments to be used for evaluating the impact of the School Breakfast Program Pilot Project on various student outcomes and for assessing the implementation of the universal-free breakfast program.

Estimate of Burden: Public reporting burden is estimated to range from 30 minutes for school principals to 255 minutes for cafeteria managers.

Respondents: Parents/guardians of sampled students will be interviewed. Elementary school children will be asked to respond to questions about dietary intake, complete a cognitive test battery and have height and weight measured. Teachers, whose students are study participants, will be asked to rate the behavior of these students. School District Administrators, School Food Service Directors, School Principals and Cafeteria Managers will be interviewed.

Estimated Number of Respondents: From each of the selected 144 elementary schools, 30 students and their households totaling 4,320 students and 4,320 households will be sampled. Respondents will also include the 6 School District Administrators, the 6 School Food Service Directors, 144 School Principals, 144 Cafeteria Managers and 864 teachers (6 teachers from each of the 144 elementary schools).

Estimated Number of Responses per Respondent: One for most respondents. Exceptions include 10 percent (432) of the study households, which will be interviewed for 25 minutes on a second occasion for additional dietary intake information about the student. 24 students from each school district will participate in a focus group. 108 teachers will be interviewed.

Estimated Total Annual Burden on Respondents: 8,920.5 hours.

Households (4,320 × 45 minutes + 432 × 25 minutes)=3,420 hours; Students (4,320 × 45 minutes + 144 × 60 minutes for focus groups)=3,384 hours; Teachers (864 × 95 minutes + 108 × 30 minutes) =1,422 hours; School District Administrators (6 × 45 minutes)=4.5 hours; School Food Service Directors (6 × 60 minutes)=6 hours; Principals (144 × 30 minutes)=72 hours; Cafeteria Managers (144 × 255 minutes)=612 hours.

Dated: September 22, 2000.
George A. Braley,
Associate Administrator, Food and Nutrition Service.

[FR Doc. 00-24870 Filed 9-27-00; 8:45 am]

BILLING CODE 3410-30-P